DEPARTMENT OF ENERGY

Federal Energy Regulatory Commission

[Project No. 13409-000]

Julian Griggs Dam Water Power Project, LLC; Notice of Preliminary Permit Application Accepted for Filing and Soliciting Comments, Motions To Intervene, and Competing Applications

August 6, 2009.

On March 25, 2009, Julian Griggs Dam Water Power Project, LLC filed an application, pursuant to section 4(f) of the Federal Power Act, proposing to study the feasibility of the Julian Griggs Water Power Project, to be located at the City of Columbus's Julian Griggs dam on the Scioto River in Franklin County, Ohio.

The proposed Julian Griggs Project would consist of: (1) The existing 67.5-foot-high, 983-foot-long concrete dam; (2) the existing 385-acre reservoir with a 4,322 acre-foot storage capacity; (3) a new 70-foot-long intake structure; (4) two new 70-foot-long, 120-inch-diameter penstocks; (5) a new powerhouse containing two proposed generating units with a total installed capacity of 4.0 megawatts; (6) a new 100-foot-long tailrace; (7) a new switchyard containing a single three-phase step-up transformer; and (8) a new 1,100-foot-long, 34.5-kilovolt overhead transmission line. The project would have an estimated average annual generation of 12,000 megawatt-hours.

Applicant Contact: Mr. Alan Skelly, 8425 Beechmont Avenue, Cincinnati, OH 45255, phone (513) 375-9242.

FERC Contact: Michael Spencer, (202) 502-6093.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13409) in the docket number field to access the document. For assistance, call toll-free 1-866-208-3372.

Nathaniel J. Davis, Sr.,
Deputy Secretary.

[FR Doc. E9-19608 Filed 8-14-09; 8:45 am]

BILLING CODE P